ENVIRONMENTAL PROTECTION AGENCY

[ER-FRL-9036-1]

Environmental Impact Statements; Notice of Availability

Responsible Agency: Office of Federal Activities, General Information (202) 564-7146 or http://www2.epa.gov/nepa/.

Weekly receipt of Environmental Impact Statements (EIS)

Filed 10/30/2017 Through 11/03/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170220, Draft, NSF, WV, Green Bank Observatory, Comment Period Ends: 01/08/2018, Contact: Elizabeth Pentecost (703) 292-4907.

EIS No. 20170221, Draft, USFS, CA, San Gabriel River Confluence with Cattle Canyon Improvements Project, Comment Period Ends: 12/26/2017, Contact: Chinling Chen (626) 574-5255.

Dated: November 6, 2017.
Kelly Knight,
Director, NEPA Compliance Division, Office of Federal Activities.

[FR Doc. 2017-24424 Filed 11-8-17; 8:45 am]

BILLING CODE 6560-50-P